DEPARTMENT OF DEFENSE

Office of the Secretary

Membership of the Performance Review Board

AGENCY: Office of the Secretary of Defense (OSD), Department of Defense (DoD).

ACTION: Notice of board membership.

SUMMARY: This notice announces the appointment of the Department of Defense, Fourth Estate, Performance Review Board (PRB) members, to include the Office of the Secretary of Defense, Joint Staff, Defense Field Activities, U.S. Court of Appeals for the Armed Forces, and the following Defense Agencies: Defense Advanced Research Projects Agency, Defense Commissary Agency, Defense Contract Audit Agency, Defense Contract Management Agency, Defense Finance and Accounting Service, Defense Health Agency, Defense Information Systems Agency, Defense Legal Services Agency, Defense Logistics Agency, Defense Prisoners of War/Missing in Action Accounting Agency, Defense Security Cooperation Agency, Defense Threat Reduction Agency, Missile Defense Agency, and Pentagon Force Protection Agency. The PRB shall provide fair and impartial review of Senior Executive Service and Senior Professional performance appraisals and make recommendations regarding performance ratings and performance awards to the Deputy Secretary of Defense.

DATES: The board membership is applicable beginning on October 20, 2021.

FOR FURTHER INFORMATION CONTACT: Laura E. Devlin Dominguez, Assistant Director for Office of the Secretary of Defense Senior Executive Management Office, Washington Headquarters Service, Department of Defense, (703) 693-8373.

SUPPLEMENTARY INFORMATION: The publication of PRB membership is required by 5 U.S.C. 4314(c)(4). In accordance with 5 U.S.C. 4314(c)(4), the following executives are appointed to the Office of the Secretary of Defense PRB with specific PRB panel assignments being made from this group. Executives listed will serve a one-year renewable term, beginning October 20, 2021.

Office of the Secretary of Defense

Appointing Authority—Dr. Kathleen H. Hicks, Deputy Secretary of Defense

Principal Executive Representative—Michael B. Donley

Chairperson—Michelle Cresswell Atkinson

Dated: November 4, 2021.
Aaron T. Siegel,
Alternate OSD Federal Register, Liaison Officer, Department of Defense.

PRB Panel Members
Julie A. Blanks | Michael V. Sorrento.
Gary A. Ashworth | Lisa K. Swan.
Llewellyn D. (Don) Means, Jr. | Douglas W. Packard.
Steven L. Schleien | Silvana Rubino-Hallman.
Michael O. Cannon | Rosalie Tinsley.
Jennifer L. Desautel | James H. Baker.
William H. Booth, Sr. | Brandi C. Vann.
Joo Y. Chung | Jagadeesh Pamulapati.
Jeffrey R. Jones | Robert P. Helfant.
Christine M. Condon | Shirley L. Reed.
Brent C. Harvey | Paul S. Koffsky.
Robert Irie | Debbra M. Caw.
David (Wes) Bennett, Jr. | Mark D. Jenkins.
Sonya I. Ebright

PRB Panel Members—Alternates
James A. Ruocco | Michael J. Holthe.
Karyn A. Runstrom | Scott M. Vickers.
Douglas A. Glenn | Kevin M. Mulvihill.
Linda A. Marvin | Jennifer J. Balisle.
Veronica E. Hinton

[FR Doc. 2021-24630 Filed 11-10-21; 8:45 am]

BILLING CODE 5001-06-P